DEPARTMENT OF COMMERCE

National Institute of Standards and Technology

Open Meetings of the Internet of Things Advisory Board

AGENCY: National Institute of Standards and Technology (NIST).

ACTION: Notice of open meetings.

SUMMARY: The Internet of Things (IoT) Advisory Board will meet Tuesday, March 7, 2023; Tuesday, April 18, 2023 and Wednesday, April 19, 2023; and Tuesday, May 16, 2023 and Wednesday, May 17, 2023 from 11:00 a.m. until 5:00 p.m., Eastern Time. All sessions will be open to the public.

DATES: The meetings will be held on Tuesday, March 7, 2023; Tuesday, April 18, 2023 and Wednesday, April 19, 2023; and Tuesday, May 16, 2023 and Wednesday, May 17, 2023 from 11:00 a.m. until 5:00 p.m., Eastern Time.

ADDRESSES: The meetings in March and May will be virtual meetings via Webex webcast hosted by the National Cybersecurity Center of Excellence (NCCoE) at NIST. The meeting in April 2023 will be hybrid with in-person seating at the NCCoE as well as a virtual option via Webex webcast, also hosted by the NCCoE. Please note registration instructions under the SUPPLEMENTARY INFORMATION section of this notice.

FOR FURTHER INFORMATION CONTACT: Barbara Cuthill, Information Technology Laboratory, National Institute of Standards and Technology, Telephone: (301) 975-3273, Email address: barbara.cuthill@nist.gov.

SUPPLEMENTARY INFORMATION: Pursuant to the Federal Advisory Committee Act, as amended, 5 U.S.C. app., notice is hereby given that the IoT Advisory Board will hold open meetings on Tuesday, March 7, 2023 Tuesday, April 18, 2023, Wednesday, April 19, 2023, Tuesday, May 16, 2023 and Wednesday, May 17, 2023 from 11:00 a.m. until 5:00 p.m., Eastern Time. All sessions will be open to the public. The IoT Advisory Board is authorized by section 9204(b)(5) of the William M. (Mac) Thornberry National Defense Authorization Act for Fiscal Year 2021 (Pub. L. 116-283) and advises the IoT Federal Working Group convened by the Secretary of Commerce pursuant to section 9204(b)(1) of the Act on matters related to the Federal Working Group's activities. Details regarding the IoT Advisory Board's activities are available at https://www.nist.gov/itl/applied-cybersecurity/nist-cybersecurity-iot-program/internet-things-advisory-board.

The agenda for the March meeting is expected to focus on establishing consensus on the outline of the IoT Advisory Board's report and data gathering framework.

The agendas for the April and May meetings will focus on discussion of specific focus areas for the report cited in the legislation and the charter:

• Smart traffic and transit technologies

• Augmented logistics and supply chains

• Sustainable infrastructure

• Precision agriculture

• Environmental monitoring

• Public safety

• Health care

In addition, the IoT Advisory Board may discuss other elements called for in the report:

• whether adequate spectrum is available to support the growing Internet of Things and what legal or regulatory barriers may exist to providing any spectrum needed in the future;

• policies, programs, or multi-stakeholder activities that—

○ promote or are related to the privacy of individuals who use or are affected by the Internet of Things;

○ may enhance the security of the Internet of Things, including the security of critical infrastructure;

○ may protect users of the Internet of Things; and

○ may encourage coordination among Federal agencies with jurisdiction over the Internet of Things.

Note that agenda items may change without notice. The final agendas will be posted on the IoT Advisory Board web page: https://www.nist.gov/itl/applied-cybersecurity/nist-cybersecurity-iot-program/internet-things-advisory-board.

Public Participation: Written comments from the public are invited and may be submitted electronically by email to Barbara Cuthill at the contact information indicated in the FOR FURTHER INFORMATION CONTACT section of this notice by 5 p.m. on the Tuesday prior to each meeting for distribution to members prior to the meeting.

Each IoT Advisory Board meeting agenda will include a period, not to exceed sixty minutes, for submitted comments from the public to be presented. Submitted comments from the public will be selected on a first-come, first-served basis and limited to five minutes per person for oral presentation if requested by the commenter. For the April meeting, the commenter needs to specify if they plan to be in-person at the meeting or want to provide their comments virtually. Both options will be available in April.

Members of the public who wish to expand upon their submitted statements, those who had wished to submit a comment but could not be accommodated on the agenda, and those who were unable to attend the meeting via webinar are invited to submit written statements. In addition, written statements are invited and may be submitted to the IoT Advisory Board at any time. All written statements should be directed to the IoT Advisory Board Secretariat, Information Technology Laboratory by email to: Barbara.Cuthill@nist.gov.

Admittance Instructions: Participants planning to attend via webinar must register via the instructions found on the IoT Advisory Board's page https://www.nist.gov/itl/applied-cybersecurity/nist-cybersecurity-iot-program/internet-things-advisory-board.

For attendance in person at the hybrid meeting in April, in-person attendance is limited to 50 and will be on a first-come, first-served basis. Registration will close for in-person attendance on April 11, 2023 at 5:00 p.m. EST.

Alicia Chambers,
NIST Executive Secretariat.

[FR Doc. 2023-03039 Filed 2-13-23; 8:45 am]

BILLING CODE 3510-13-P